DEPARTMENT OF STATE

[Public Notice 4968]

Advisory Committee for Study of Eastern Europe and the Independent States of the Former Soviet Union: Notice of Public Meeting

The Department of State announces that the Advisory Committee for the Study of Eastern Europe and the Independent States of the Former Soviet Union (Title VIII) will convene on Thursday, April 14, 2005 beginning at 9:30 a.m. in Room 1105, U.S. Department of State, Harry S Truman Building, 2201 C Street, NW., Washington, DC.

The Advisory Committee will recommend grant recipients for the FY 2005 competition of the Program for the Study of Eastern Europe and the Independent States of the Former Soviet Union in connection with the “Research and Training for Eastern Europe and the Independent States of the Former Soviet Union Act of 1983, as amended.” The agenda will include opening statements by the Chairman and members of the committee, and, within the committee, discussion, approval, and recommendation that the Department of State negotiate grant agreements with certain “national organizations with an interest and expertise in conducting research and training concerning the countries of Eastern Europe and the Independent States of the Former Soviet Union,” based on the guidelines contained in the call for applications published in the Federal Register on December 1, 2004. Following committee deliberation, interested members of the public may make oral statements concerning the Title VIII program in general.

This meeting will be open to the public, however attendance will be limited to the seating available. Entry into the Harry S Truman building is controlled and must be arranged in advance of the meeting. Those planning to attend should notify Susie Baker, INR/RES, U.S. Department of State, (202) 647-0243 by Monday, April 11, 2005, providing their Full Name, Date of Birth, Social Security Number, Country of Citizenship, and any requirements for special needs. All attendees must use the 2201 C Street, NW., entrance to the building. Visitors who arrive without prior notification and without photo identification will not be admitted.

Dated: March 14, 2005.
Kenneth E. Roberts,
Executive Director, Advisory Committee for Study of Eastern Europe and the Independent States of the Former Soviet Union, Department of State.

[FR Doc. 05-5507 Filed 3-18-05; 8:45 am]

BILLING CODE 4710-32-P